DEPARTMENT OF COMMERCE

International Trade Administration

[C-533-937]

Overhead Door Counterbalance Torsion Springs From India: Final Affirmative Countervailing Duty Determination and Final Affirmative Critical Circumstances Determination

AGENCY: Enforcement and Compliance, International Trade Administration, Department of Commerce.

SUMMARY: The U.S. Department of Commerce (Commerce) determines that countervailable subsidies are being provided to producers and exporters of overhead door counterbalance torsion springs (overhead door springs) from India. The period of investigation is January 1, 2023, through December 31, 2023.

DATES: Applicable December 31, 2025.

FOR FURTHER INFORMATION CONTACT: Zachary Shaykin, AD/CVD Operations, Office IV, Enforcement and Compliance, International Trade Administration, U.S. Department of Commerce, 1401 Constitution Avenue NW, Washington, DC 20230; telephone: (202) 482-2638.

SUPPLEMENTARY INFORMATION:

Background

On April 3, 2025, Commerce published its Preliminary Determination in the Federal Register.¹ In the Preliminary Determination, and in accordance with section 705(a)(1) of the Tariff Act of 1930, as amended (the Act), and 19 CFR 351.210(b)(4), Commerce aligned the final determination of this countervailing duty (CVD) investigation with the final determination in the companion antidumping duty investigation of overhead door springs from India.² Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for this final determination is now December 22, 2025.

¹ See Overhead Door Counterbalance Torsion Springs from India: Preliminary Affirmative Countervailing Duty Determination and Alignment of Final Determination with Final Antidumping Duty Determination, 90 FR 14602 (April 3, 2025) (Preliminary Determination), and accompanying Preliminary Decision Memorandum.

² Id., 90 FR at 14603.

³ See Memorandum, “Deadlines Affected by the Shutdown of the Federal Government,” dated November 14, 2025.

⁴ See Memorandum, “Tolling of all Case Deadlines,” dated November 24, 2025.

For a complete description of the events that followed the Preliminary Determination, see the Issues and Decision Memorandum.⁵ The Issues and Decision Memorandum is a public document and is on file electronically via ACCESS. ACCESS is available to registered users at https://access.trade.gov. In addition, a complete version of the Issues and Decision Memorandum can be accessed directly at https://access.trade.gov/public/FRNoticesListLayout.aspx.

⁵ See Memorandum, “Issues and Decision Memorandum for the Final Affirmative Determination of the Countervailing Duty Investigation of Overhead Door Counterbalance Torsion Springs from India,” dated concurrently with, and hereby adopted by, this notice (Issues and Decision Memorandum).

Scope of the Investigation

The products covered by this investigation are overhead door springs from India. For a complete description of the scope of this investigation, see Appendix I.

Scope Comments

We received no comments from interested parties on the scope of the investigation as it appeared in the Preliminary Determination. Therefore, we made no changes to the scope of the investigation from that published in the Preliminary Determination for the final determination.

Verification

As provided in section 782(i) of the Act, we intended to conduct verification of the sales and benefit information submitted by Alcomex Springs Pvt Ltd. (Alcomex) for use in our final determination. However, because Alcomex withdrew its participation from this investigation prior to Commerce's verification, Commerce did not conduct verification.⁶ Thus, as stated above, we drew an adverse inference in selecting from the facts otherwise available to determine a countervailable subsidy rate with respect to Alcomex based entirely under section 776 of the Act. For further information, see the “Use of Facts Otherwise Available and Application of Adverse Inferences” section in the Issues and Decision Memorandum.

⁶ See Alcomex's Letter, “Alcomex's Withdrawal of Participation from Investigation,” dated May 19, 2025.

Analysis of Subsidy Programs and Comments Received

The subsidy programs under investigation, and the issues raised in the case and rebuttal briefs that were submitted by interested parties in this investigation are addressed in the Issues and Decision Memorandum. For the list of the issues raised by parties, and to which we responded in the Issues and Decision Memorandum, see Appendix II to this notice.

Methodology

Commerce conducted this investigation in accordance with section 701 of the Act. For each of the subsidy programs found countervailable, Commerce determines that there is a subsidy, i.e., a financial contribution by an “authority” that gives rise to a benefit to the recipient, and that the subsidy is specific.⁷ For a full description of the methodology underlying our final determination, see the Issues and Decision Memorandum. In making this final determination, Commerce relied on facts otherwise available, including with an adverse inference, pursuant to sections 776(a) and (b) of the Act. For a full discussion of our application of adverse facts available (AFA), see the Issues and Decision Memorandum at Comments 1 and 2.

⁷ See sections 771(5)(B) and (D) of the Act regarding financial contribution; section 771(5)(E) of the Act regarding benefit; and section 771(5A) of the Act regarding specificity.

Use of AFA

Because Alcomex withdrew from participation in this investigation prior to verification, we determine that Alcomex's data cannot serve as a reliable basis for reaching a determination in this investigation because this data could not be verified. We further determine that Alcomex significantly impeded the investigation and did not act to the best of its ability to comply with our requests for information. Therefore, we also find it appropriate to base Alcomex's countervailable subsidy rate on AFA. For further discussion, see the Issues and Decision Memorandum.

Changes Since the Preliminary Determination

We made certain changes to the countervailable subsidy rate for Alcomex, certain non-selected respondents in this investigation, and all other producers and/or exporters of overhead door springs from India since the Preliminary Determination and the Preliminary Critical Circumstances Determination.⁸ For a discussion of these changes, see the “Changes Since the Preliminary Determination” section of the Issues and Decision Memorandum.

⁸ See Overhead Door Counterbalance Torsion Springs from India: Preliminary Affirmative Determination of Critical Circumstances in the Countervailing Duty Investigation, 90 FR 35660 (July 29, 2025) (Preliminary Critical Circumstances Determination); see also Memorandum, “Preliminary Critical Circumstances Analysis,” dated July 24, 2025, at Attachment.

Final Affirmative Determination of Critical Circumstances

Commerce preliminarily determined, in accordance with section 703(e)(1) of the Act and 19 CFR 351.206(c)(1), that critical circumstances exist with respect to overhead door springs from India produced and/or exported by Alcomex, the non-responsive companies,⁹ and all other producers and/or exporters not individually examined.¹⁰ For this final determination, pursuant to section 705(a)(2) of the Act and 19 CFR 351.206, we continue to find that critical circumstances exist for Alcomex, the non-responsive companies, and all other producers and/or exporters. With respect to finding that critical circumstances exist for the non-responsive companies, we relied on AFA, pursuant to sections 776(a) and (b) of the Act. For a full description of the methodology, see the Issues and Decision Memorandum.

⁹ The non-responsive companies are: (1) Asha Spring and Engineering Company; (2) Balaji Springs Pvt. Ltd.; (3) Modern Engineering & Spring Company; and (4) Reliable Springs Ltd. (collectively, non-responsive companies).

¹⁰ See Preliminary Critical Circumstances Determination.

All-Others Rate

Sections 703(d) and 705(c)(5)(A) of the Act provide that Commerce shall determine an estimated all-others rate for companies not individually examined. This rate shall be an amount equal to the weighted average of the estimated rates established for those companies individually examined, excluding any zero and de minimis rates and any rates based entirely under section 776 of the Act.

Pursuant to section 705(c)(5)(A)(ii) of the Act, if the individual estimated countervailable subsidy rates established for all exporters and producers individually examined are zero, de minimis, or determined based entirely on facts otherwise available, Commerce may use any reasonable method to establish the estimated subsidy rate for all other producers or exporters. In this investigation, Commerce has determined that the individually estimated subsidy rate for the individually examined respondent(s) under section 776 of the Act. Thus, this is the only rate available in this proceeding for deriving the all-others rate. Consequently, Commerce established the-all others rate by applying the countervailable subsidy rate assigned to the mandatory respondent. For a full description of the methodology underlying Commerce's analysis, see the Issues and Decision Memorandum.

Final Determination

Commerce determines that the following estimated countervailable subsidy rates exist:

Company | Subsidy rate (percent ad valorem)
Alcomex Springs Pvt Ltd | * 172.08
Asha Spring and Engineering Company | * 172.08
Balaji Springs Pvt. Ltd | * 172.08
Modern Engineering & Spring Company | * 172.08
Reliable Springs Ltd | * 172.08
All Others | * 172.08
* Rate based on facts available with adverse inferences.

Disclosure

Because Commerce applied AFA to the sole mandatory respondent, respondents not selected for individual examination, and all-other producers and/or exporters of subject merchandise in this investigation, in accordance with section 776 of the Act, there are no calculations to disclose for this final determination pursuant to 19 CFR 351.224(b).

Suspension of Liquidation

In accordance with sections 703(d)(1)(B) and (d)(2) and 703(e)(2)(A) of the Act, and pursuant to our Preliminary Critical Circumstances Determination, Commerce instructed U.S. Customs and Border Protection (CBP) to collect cash deposits and suspend liquidation of all entries of overhead door springs from India, as described in Appendix I of this notice, which were entered or withdrawn from warehouse for consumption on or after January 3, 2025, 90 days prior to the date of publication of the Preliminary Determination of this investigation in the Federal Register. In accordance with section 703(d) of the Act, we instructed CBP to discontinue the suspension of liquidation of all entries of subject merchandise entered or withdrawn from warehouse, on or after August 1, 2025, but to continue the suspension of liquidation of all entries of subject merchandise on or before July 31, 2025.

If the U.S. International Trade Commission (ITC) issues a final affirmative injury determination, we will issue a CVD order, reinstate the suspension of liquidation under section 706(a) of the Act, and require a cash deposit of estimated countervailing duties for such entries of subject merchandise in the amounts indicated above, in accordance with section 706(a) of the Act. If the ITC determines that material injury, or threat of material injury, does not exist, this proceeding will be terminated, and all estimated duties deposited or securities posted as a result of the suspension of liquidation will be refunded or canceled.

ITC Notification

In accordance with section 705(d) of the Act, Commerce will notify the ITC of its final affirmative determination that countervailable subsidies are being provided to producers and exporters of overhead door springs from India. Because the final determination is affirmative, in accordance with section 705(b) of the Act, the ITC will make its final determination as to whether the domestic industry in the United States is materially injured, or threatened with material injury, by reason of imports of molded fiber products from India no later than 45 days after this final determination. In addition, we are making available to the ITC all non-privileged and nonproprietary information related to this investigation. We will allow the ITC access to all privileged and business proprietary information in our files, provided the ITC confirms that it will not disclose such information, either publicly or under an administrative protective order (APO), without the written consent of the Assistant Secretary for Enforcement and Compliance. If the ITC determines that material injury or threat of material injury does not exist, this proceeding will be terminated and all cash deposits will be refunded.

If the ITC determines that such injury does exist, Commerce will issue a CVD order directing CBP to assess, upon further instruction by Commerce, countervailing duties on all imports of the subject merchandise that are entered, or withdrawn from warehouse, for consumption on or after the effective date of the suspension of liquidation, as discussed above in the “Suspension of Liquidation” section.

Administrative Protective Order

In the event that the ITC issues a final negative injury determination, this notice will serve as the only reminder to parties subject to an APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: December 22, 2025.
Christopher Abbott,
Deputy Assistant Secretary for Policy and Negotiations, performing the non-exclusive functions and duties of the Assistant Secretary for Enforcement and Compliance.

Appendix I

Scope of the Investigation

The merchandise covered by this investigation is helically-wound, overhead door counterbalance torsion steel springs (overhead door counterbalance torsion springs) and any cones, plugs or other similar fittings for mounting and creating torque in the spring (herein collectively referred to as cones) attached to or entered with and invoiced with the subject overhead door counterbalance torsion springs. Overhead door counterbalance torsion springs are helical steel springs with tightly wound coils that store and release mechanical energy by winding and unwinding along the spring's axis by an angle, using torque to create a lifting force in the counterbalance assembly typically used to raise and lower overhead doors, including garage doors, industrial rolling doors, warehouse doors, trailer doors, and other overhead doors, gates, grates, or similar devices. The merchandise covered by this investigation covers all overhead door counterbalance torsion springs with a coil inside diameter of 15.8 millimeters (mm) or more but not exceeding 304.8 mm (measured across the diameter from inner edge to inner edge); a wire diameter of 2.5 mm to 20.4 mm; a length of 127 mm or more; and regardless of the following characteristics:

• wire type (including, but not limited to, oil-tempered wire, hard-drawn wire, music wire, galvanized or other coated wire);

• wire cross-sectional shape (e.g., round, square, or other shapes);

• coating (e.g., uncoated, oil- or water-based coatings, lubricant coatings, zinc, aluminum, zinc-aluminum, paint or plastic coating, etc.);

• winding orientation (left-hand or right-hand wind direction);

• end type (including, but not limited to, looped, double looped, clipped, long length, mini warehouse, Barcol, Crawford, Kinnear, Wagner, rolling steel or barrel ends); and

• whether the overhead door counterbalance torsion springs are fitted with hardware, including but not limited to fasteners, clips, and cones (winding or stationary cones).

For purposes of the diameters referenced above, where the nominal and actual measurements vary, a product is within the scope if application of either the nominal or actual measurement would place it within the scope based on the definitions set forth above.

The steel torsion springs included in the scope of this investigation are produced from steel in which: (1) iron predominates, by weight, over each of the other contained elements; and (2) the carbon content is 2 percent or less, by weight.

Subject merchandise includes cones attached to or entered with and invoiced with the subject overhead door counterbalance torsion springs. Such cones, which are typically cast aluminum, aluminum alloy or steel (but may be made from other materials) are made to mount the subject springs to the overhead door counterbalance system and create and maintain torque in the spring. Cones or other similar fittings that are not attached to the subject springs or are not entered with and invoiced with the subject springs are not included within the scope unless entered as parts of kits as described below.

Subject merchandise also includes all subject overhead door counterbalance torsion springs and cones or other similar fittings for mounting and tensioning the spring entered as a part of overhead door kits, overhead door mounting or assembly kits, or as a part of a spring-operated motor assembly or as a part of a spring winder assembly kit for torsion springs. When counterbalance torsion springs and cones or other similar fittings for attaching and tensioning the torsion spring are entered as a part of such kits, only the counterbalance spring and cones or other similar fittings in the kit are within scope. Subject merchandise also includes overhead door counterbalance torsion springs that have been further processed in a third country, including but not limited to cutting to length, attachment of hardware, cones or end-fittings, inclusion in garage door kits or garage door mounting or assembly kits, or any other processing that would not remove the merchandise from the scope of this investigation if performed in the country of manufacture of the in-scope overhead door counterbalance torsion springs. All products that meet the written physical description are within the scope of this investigation unless specifically excluded. The following products are specifically excluded from the scope of this investigation:

• leaf springs (slender arc-shaped length of spring steel of a rectangular cross-section);

• disc springs (conical springs consisting of a convex disc with the outer edge working against the center of the disc);

• extension springs (close-wound round helical wire springs that store and release energy by resisting the external pulling forces applied to the spring's ends in the direction of its length);

• compression springs (helical coiled springs with open wound active coils (such open winding is also known as pitch) that are designed to compress under load or force); and

• spiral springs (torsion springs wound as concentric spirals such as a clock spring or mainspring).

The products subject to this investigation are currently classified under Harmonized Tariff Schedule of the United States (HTSUS) subheadings 7320.20.5020, 7320.20.5045 and 7320.20.5060. They may also be classified under HTSUS subheading 8412.90.9085 if entered as parts of spring-operated motors. They may also be classified in HTSUS subheading 8412.80.1000 (spring-operated motors) if entered as part of a spring counterweight assembly for an overhead door. They may also be classified in HTSUS subheading 7308.90.9590, a basket category that includes metal garage doors entered with mounting accessories or assemblies.

Although the HTSUS subheadings are provided for convenience and customs purposes, the written description of the scope of this investigation is dispositive.

Appendix II

List of Topics Discussed in the Issues and Decision Memorandum

I. Summary

II. Background

III. Diversification of India's Economy

IV. Changes Since the Preliminary Determination

V. Use of Facts Otherwise Available and Application of Adverse Inferences

VI. Final Determination of Critical Circumstances

VII. Analysis of Programs

VIII. Discussion of the Issues

Comment 1: Commerce Should Apply Total Adverse Facts Available (AFA) to Alcomex

Comment 2: Whether Commerce Should Apply AFA to the Government of India

Comment 3: Commerce Incorrectly Determined that Certain Programs Are Countervailable

Comment 4: Commerce Should Select Alcomex's Preliminary Countervailable Subsidy Rate as the Rate Assigned to All Other Producers and/or Exporters in India

IX. Recommendation

[FR Doc. 2025-24032 Filed 12-30-25; 8:45 am]

BILLING CODE 3510-DS-P